DEPARTMENT OF DEFENSE

Department of the Army

Privacy Act of 1974; System of Records

AGENCY: Department of the Army, DoD.

ACTION: Notice to amend a system of records.

SUMMARY: The Department of the Army is amending a system of records notice in its existing inventory of records systems subject to the Privacy Act of 1974, (5 U.S.C. 552a), as amended.

The amendment consists of correcting a duplicate system identifier assigned to a system of records notice that was published on July 31, 2002, at 67 FR 49679. The system identifier for A0351 HSC-AHS, U.S. Army Medical Department School and Academy of Health Sciences Academic Records (February 15, 2002, 67 FR 7140) should have been changed to ‘A0351a DASG’. This amendment corrects this oversight.

DATES: This proposed action will be effective without further notice on September 11, 2002, unless comments are received which result in a contrary determination.

ADDRESSES: Records Management Division, U.S. Army Records Management and Declassification Agency, ATTN: TAPC-PDD-RP, Stop 5603, 6000 6th Street, Ft. Belvoir, VA 22060-5603.

FOR FURTHER INFORMATION CONTACT: Ms. Janice Thornton at (703) 806-4390 or DSN 656-4390 or Ms. Christie King at (703) 806-3711 or DSN 656-3711.

SUPPLEMENTARY INFORMATION: The Department of the Army systems of records notices subject to the Privacy Act of 1974, (5 U.S.C. 552a), as amended, have been published in the Federal Register and are available from the address above.

The specific changes to the records system being amended are set forth below followed by the notice, as amended, published in its entirety. The proposed amendments are not within the purview of subsection (r) of the Privacy Act of 1974, (5 U.S.C. 552a), as amended, which requires the submission of a new or altered system report.

Dated: August 5, 2002.
Patricia L. Toppings,
Alternate OSD Federal Register Liaison Officer, Department of Defense.

A0351 HSC-AHS

System name:

U.S. Army Medical Department School and Academy of Health Sciences Academic Records (February 15, 2002, 67 FR 7140).

Changes:

System identifier:

Delete entry and replace with ‘A0351a DASG’.

* * * * *

A0351a DASG

System name:

U.S. Army Medical Department School and Academy of Health Sciences Academic Records.

System location:

U.S. Army Medical Department Center and School, Academy of Health Sciences, Department of Academic Support, 2250 Stanley Road, Fort Sam Houston, TX 78234-6100.

Categories of individuals covered by the system:

Resident and correspondence students enrolled in courses at the Academy.

Categories of records in the system:

Student's name, Social Security Number, grade/rank, academic qualifications, progress reports, academic grades, ratings attained, aptitudes and personal qualities, including corporate fitness results; faculty board records pertaining to class standing/rating/classification/proficiency of students; class academic records maintained by instructors indicating attendance and progress of class members.

Authority for maintenance of the system:

10 U.S.C. 3013, Secretary of the Army; Army Regulation 351-3, Professional Education and Training Programs of the Army Medical Department; and E.O. 9397 (SSN).

Purpose(s):

To determine eligibility for enrollment/attendance, monitor student progress, record accomplishments, and serve as record of courses which may be prerequisite for other formal courses of instruction, licensure, certification, and employment.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

Information may be disclosed to civilian medical institutions for the purpose of accrediting the individual's training and instruction.

The DoD ‘Blanket Routine Uses’ set forth at the beginning of the Army's compilation of systems of records notices also apply to this system.

Policies and practices for storing, retrieving, accessing, retaining, and disposing of records in the system:

Storage:

Paper records, microfiche, cards, magnetic tape and/or disc, and computer printouts.

Retrievability:

By individual's name and Social Security Number.

Safeguards:

Access to all records is restricted to designated individuals whose official duties dictate the need therefore.

Retention and disposal:

Academic records are maintained 40 years at the Academy of Health Sciences. Except for the master file, automated data are erased after the fourth updating cycle.

System manager(s) and address:

Registrar, Academy of Health Sciences, 2250 Stanley Road, Fort Sam Houston, TX 78234-6000.

Notification procedure:

Individuals seeking to determine whether information about themselves is contained in this system should address written inquiries to the Registrar, Academy of Health Sciences, 2250 Stanley Road, Fort Sam Houston, TX 78234-6000.

For verification purposes, individual should provide the full name, Social Security Number, date attended/enrolled, current address, and signature.

Record access procedures:

Individuals seeking access to information about themselves contained in this system should address written inquiries to the Registrar, Academy of Health Sciences, 2250 Stanley Road, Fort Sam Houston, TX 78234-6000.

For verification purposes, individual should provide the full name, Social Security Number, date attended/enrolled, current address, and signature.

Contesting record procedures:

The Army's rules for accessing records, and for contesting contents and appealing initial agency determinations are contained in Army Regulation 340-21; 32 CFR part 505; or may be obtained from the system manager.

Record source categories:

From the individual and Academy of Health Sciences' staff and faculty.

Exemptions claimed for the system:

None.

[FR Doc. 02-20270 Filed 8-9-02; 8:45 am]

BILLING CODE 5001-08-P